DEPARTMENT OF THE INTERIOR

National Park Service

National Register of Historic Places; Notification of Pending Nominations

Nominations for the following properties being considered for listing in the National Register were received by the National Park Service before January 27, 2001. Pursuant to section 60.13 of 36 CFR part 60 written comments concerning the significance of these properties under the National Register criteria for evaluation may be forwarded to the National Register, National Park Service, 1849 C St. NW, NC400, Washington, DC 20240. Written comments should be submitted by February 21, 2001.

Carol D. Shull,
Keeper of the National Register Of Historic Places.

ARIZONA

Maricopa County

Oakland Historic District (Boundary Decrease), Roughly bounded by 19th Ave. Fillmore St., Grand Ave., and Van Buren St., Phoenix, 01000164

COLORADO

El Paso County

Pauline Chapel, 2 Park Ave., Colorado Springs, 01000165

GEORGIA

Ben Hill County

Wilsey, Miles V., House, 137 Hudson Rd., Fitzgerald, 01000166

NEBRASKA

Fillmore County

Burk, J.M., House, 331 N. 11th St., Geneva, 01000169

McPherson County

Long Creek School, (School Buildings in Nebraska MPS), Long Creek Lane, Blair, 01000167

Saunders County

Ithaca Grain Elevator, Old, One Blk. S of 4th St., Ithaca, 01000168

NEW YORK

Broome County

Endicott Square Deal Arch, Main St., E of Vestal Ave., Endicott, 01000171

Sullivan County

Center Theatre, NY 52, Woodbourne, 01000170

SOUTH DAKOTA

Butte County

Ditchrider House, N of US 212, Nisland, 01000172

WISCONSIN

Manitowoc County

Sexton's House, 736 Revere Dr., Manitowoc, 01000173

Milwaukee County

West Allis Post Office, (United States Post Office Construction in Wisconsin MPS), 7440 W. Greenfield Ave., West Allis, 01000174

A request for Removal has been made for the following resource:

SOUTH DAKOTA

Davison County

Eddy and Brooks Auto Repair, 209 North Lawler, Mitchell, 95000275

[FR Doc. 01-3054 Filed 2-5-01; 8:45 am]

BILLING CODE 4310-70-P